DEPARTMENT OF HOMELAND SECURITY

Coast Guard

33 CFR Part 165

[Docket No. USCG-2008-0475]

RIN 1625-AA00

Safety Zones: Fireworks Displays in the Captain of the Port Puget Sound Zone

AGENCY: Coast Guard, DHS.

ACTION: Temporary final rule.

SUMMARY: The U.S. Coast Guard is establishing safety zones on the waters of the Puget Sound located in the Captain of the Port Puget Sound Zone during fireworks displays. This action is necessary to provide for the safety of life during these displays. Entry into, transit through, mooring, or anchoring within these zones is prohibited unless authorized by the Captain of the Port, Puget Sound or his designated representatives.

DATES: This regulation is effective from June 7, 2008 through July 6, 2008.

ADDRESSES: Documents indicated in this preamble as being available in the docket are part of docket USCG-2008-0475 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Waterways Management Division, Coast Guard Sector Seattle, 1519 Alaskan Way South, Seattle, WA 98134, between 8 a.m. and 4 p.m., Monday through Friday, except Federal holidays.

FOR FURTHER INFORMATION CONTACT: If you have questions on this temporary rule, call Petty Officer Stephen Knappe, U.S. Coast Guard Sector Seattle, Waterways Management Division, 206-217-6051. If you have questions on viewing the docket, call Renee V. Wright, Program Manager, Docket Operations, telephone 202-366-9826.

SUPPLEMENTARY INFORMATION:

Regulatory Information

We did not publish a notice of proposed rulemaking (NPRM) for this regulation. Under 5 U.S.C. 553(b)(B), the Coast Guard finds that good cause exists for not publishing an NPRM. Publishing an NPRM would be contrary to public interest since immediate action is necessary to ensure the safety of vessels and spectators gathering in the vicinity of the various fireworks launching barges and displays. If normal notice and comment procedures were followed, this rule would not become effective until after the dates of the events.

Under 5 U.S.C. 553(d)(3), the U.S. Coast Guard finds that good cause exists for making this rule effective less than 30 days after publication in the Federal Register. Making this rule effective less than 30 days after publication in the Federal Register is necessary to ensure safety of the vessels and spectators gathering in the vicinity of the various fireworks launching barges and displays on the dates and times this rule will be in effect.

Background and Purpose

The U.S. Coast Guard is establishing temporary safety zones to allow for safe fireworks displays. All events occur within the Captain of the Port, Puget Sound, WA, Area of Responsibility (AOR). These events may result in a number of vessels congregating near fireworks launching barges and sites. The safety zones are needed to protect watercraft and their occupants from safety hazards associated with fireworks displays. The Captain of the Port Puget Sound may be assisted by other federal and local agencies in the enforcement of these safety zones.

Discussion of Rule

This rule will control the movement of all vessels and persons in a regulated area surrounding the fireworks events indicated in this Temporary Final Rule. The safety zones do not extend on land.

The U.S. Coast Guard through this action intends to promote the safety of personnel, fireworks launching barges and sites. Entry into these zones by all vessels or persons will be prohibited unless authorized by the Captain of the Port. The Captain of the Port may be assisted by other federal, state, or local agencies as needed.

Regulatory Evaluation

This rule is not a “significant regulatory action” under section 3(f) of Executive Order 12866, Regulatory Planning and Review, and does not require an assessment of potential costs and benefits under section 6(a)(3) of that Order. The Office of Management and Budget has not reviewed it under that Order.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The U.S. Coast Guard certifies under 5 U.S.C. 605(b) that this rule will not have a significant economic impact on a substantial number of small entities.

This temporary rule will affect the following entities, some of which may be small entities: The owners or operators of vessels intending to transit a portion of the Puget Sound while this rule is enforced. These safety zones will not have significant economic impact on a substantial number of small entities for the following reasons. This temporary rule will be in effect for no more than 2.5 hours when vessel traffic volume is low. Traffic will be allowed to pass through these zones with the permission of the Captain of the Port or his designated representatives, and if safe to do so.

Assistance for Small Entities

Under section 213(a) of the Small Business Regulatory Enforcement Fairness Act of 1996 (Pub. L. 104-121), we want to assist small entities in understanding the rule so that they can better evaluate its effects on them and participate in the rulemaking process. If the rule will affect your small business, organization, or governmental jurisdiction and you have questions concerning its provisions or options for compliance, please contact the person listed in the FOR FURTHER INFORMATION CONTACT section. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this temporary rule is categorically excluded, under figure 2-1, paragraph (34)(g), of the Instruction, from further environmental documentation because it establishes a safety zone. A final “Environmental Check List” and a final “Categorical Exclusion Determination” will be available in the docket where indicated under ADDRESSES.

List of Subjects in 33 CFR Part 165

Harbors, Marine safety, Navigation (water), Reporting and recordkeeping requirements, Security measures, and Waterways.

For the reasons discussed in the preamble, the Coast Guard amends 33 CFR part 165, as follows:

PART 165—REGULATED NAVIGATION AREAS AND LIMITED ACCESS AREAS

1. The authority citation for part 165 continues to read as follows:

Authority: 33 U.S.C. 1226, 1231; 46 U.S.C. Chapters 701; 50 U.S.C. 191, 195; 33 CFR 1.05-1, 6.04-1, 6.04-6, and 160.5; Pub. L. 107-295, 116 Stat. 2064; Department of Homeland Security Delegation No. 0170.1.

2. A temporary section USCG-2008-0475 is added to read as follows:

§ 165.T13-034 Safety Zones: Fireworks displays in the Captain of the Port, Puget Sound.

(a) Safety Zones. The following areas are designated safety zones:

(1) Bay Liner Reunion, Roche Harbor, WA

(i) Location. All water of Roche Harbor extending out to a 400′ radius from the launch site at 48°36′40″ N 123°09′34″ W.

(ii) Effective time and date. 9 p.m. to 11:30 p.m. on June 7, 2008.

(2) Poulsbo 3rd of July Fireworks Display, Liberty Bay, WA

(i) Location. All water of Liberty Bay extending out to a 500′ radius from the launch site at 47°44′56″ N 122°39′11″ W.

(ii) Effective time and date. 9 p.m. to 11:30 p.m. on July 3, 2008.

(3) Deer Harbor Annual Fireworks Display, Deer Harbor, WA

(i) Location. All water of Deer Harbor extending out to a 500′ radius from the launch site at 48°37′10″ N 123°00′15″ W.

(ii) Effective time and date. 9 p.m. to 11:30 p.m. on July 3, 2008.

(4) Boston Harbor Fireworks Display, Boston Harbor, WA

(i) Location. All water of Dana Passage extending out to a 300′ radius from the launch site at 47°08′31″ N 122°54′20″ W.

(ii) Effective time and date. 9 p.m. to 11:30 p.m. on July 3, 2008.

(5) Friday Harbor Independence, Friday Harbor, WA

(i) Location. All water of Friday Harbor extending out to a 700′ radius from the launch site at 48°32′36″ N 123°00′28″ W.

(ii) Effective time and date. 9 p.m. to 11:30 p.m. on July 4, 2008.

(6) Steilacoom Annual 4th of July Fireworks, Steilacoom, WA

(i) Location. All water of Steilacoom Bay extending out to a 1,300′ radius from the launch site at 47°10′24″ N 122°36′12″ W.

(ii) Effective time and date. 8 p.m. to 10:30 p.m. on July 4, 2008.

(7) Port Orchard 4th of July Fireworks, Port Orchard, WA

(i) Location. All water of Port Orchard extending out to a 1,000′ radius from the launch site at 47°32′53″ N 122°37′55″ W.

(ii) Effective time and date. 9 p.m. to 11:30 p.m. on July 4, 2008.

(8) Yarrow Point Community 4th, Yarrow Point, WA

(i) Location. All water of Lake Washington extending out to a 400′ radius from the launch site at 47°39′45″ N 122°13′30″ W.

(ii) Effective time and date. 9 p.m. to 11:30 p.m. on July 4, 2008.

(9) Port Angeles Chamber of Commerce, Port Angeles Bay, WA

(i) Location. All water of Port Angeles Bay extending out to a 400′ radius from the launch site at 48°07′02″ N 123°24′58″ W.

(ii) Effective time and date. 9 p.m. to 11:30 p.m. on July 4, 2008.

(10) Lake Forest Park 4th of July, Bothell, WA

(i) Location. All water of Lake Washington extending out to a 400′ radius from the launch site at 47°45′07″ N 122°16′22″ W.

(ii) Effective time and date. 9 p.m. to 11:30 p.m. on July 4, 2008.

(11) Three Tree Point Community, Three Tree Point, WA

(i) Location. All water of Puget Sound extending out to a 500′ radius from the launch site at 47°27′01″ N 122°23′09″ W.

(ii) Effective time and date. 9 p.m. to 11:30 p.m. on July 4, 2008.

(12) City of Renton, Renton, WA

(i) Location. All water of Lake Washington extending out to a 400′ radius from the launch site at 47°29′59″ N 122°11′51″ W.

(ii) Effective time and date. 9 p.m. to 11:30 p.m. on July 4, 2008.

(13) Port Townsend Sunrise Rotary, Port Townsend, WA

(i) Location. All water of Port Townsend extending out to a 500′ radius from the launch site at 47°44′56″ N 122°39′11″ W.

(ii) Effective time and date. 9 p.m. to 11:30 p.m. on July 4, 2008.

(14) Vashon Island 4th of July, Quartermaster Harbor, WA

(i) Location. All water of Quartermaster Harbor extending out to a 1,300′ radius from the launch site at 47°24′00″ N 122°27′00″ W.

(ii) Effective time and date. 8:30 p.m. to 11 p.m. on July 4, 2008.

(15) Sheridan Beach Community Club, Lake Forest, WA

(i) Location. All water of Lake Washington extending out to a 300′ radius from the launch site at 47°44′47″ N 122°16′55″ W.

(ii) Effective time and date. 8:30 p.m. to 11 p.m. on July 4, 2008.

(16) City of Kenmore 4th of July, Kenmore, WA

(i) Location. All water of Lake Washington extending out to a 400′ radius from the launch site at 47°45′43″ N 122°15′50″ W.

(ii) Effective time and date. 8:30 p.m. to 11 p.m. on July 4, 2008.

(17) Fireworks Display, Henderson Bay, WA

(i) Location. All water of Henderson Bay extending out to a 700′ radius from the launch site at 47°21′48″ N 122°38′22″ W.

(ii) Effective time and date. 9 p.m. to 11:30 p.m. on July 4, 2008.

(18) Kingston Fireworks Display, Kingston, WA

(i) Location. All water of Appletree Cove extending out to a 400′ radius from the launch site at 47°47′33″ N 122°29′55″ W.

(ii) Effective time and date. 9 p.m. to 11:30 p.m. on July 4, 2008.

(19) Des Moines 4th of July, Des Moines, WA

(i) Location. All water of East Passage extending out to a 500′ radius from the launch site at 47°24′10″ N 122°20′05″ W.

(ii) Effective time and date. 9 p.m. to 11:30 p.m. on July 4, 2008.

(20) Kirkland 4th of July, Kirkland, WA

(i) Location. All water of Lake Washington extending out to a 700′ radius from the launch site at 47°40′26″ N 122°12′56″ W.

(ii) Effective time and date. 9 p.m. to 11:30 p.m. on July 4, 2008.

(21) 4th of July Display, Port Ludlow, WA

(i) Location. All water of Port Ludlow extending out to a 500′ radius from the launch site at 47°55′14″ N 122°41′11″ W.

(ii) Effective time and date. 8:30 p.m. to 11 p.m. on July 4, 2008.

(22) Grapeview Patriotic Event, Grapeview, WA

(i) Location. All water of Case Inlet extending out to a 800′ radius from the launch site at 47°19′17″ N 122°50′08″ W.

(ii) Effective time and date. 8:30 p.m. to 11 p.m. on July 4, 2008.

(23) 4th of July, Roche Harbor, WA

(i) Location. All water of Roche Harbor extending out to a 400′ radius from the launch site at 48°36′40″ N 123°09′34″ W.

(ii) Effective time and date. 9 p.m. to 11:30 p.m. on July 4, 2008.

(24) Orcas Island Fireworks Display, Orcas, WA

(i) Location. All water of East Sound extending out to a 700′ radius from the launch site at 48°41′20″ N 122°54′28″ W.

(ii) Effective time and date. 9 p.m. to 11:30 p.m. on July 4, 2008.

(25) Langlies Old Fashioned Independence, Indianola, WA

(i) Location. All water of Admiral Inlet extending out to a 500′ radius from the launch site at 47°44′49″ N 122°31′32″ W.

(ii) Effective time and date. 8:30 p.m. to 11 p.m. on July 5, 2008.

(26) Olele Point Patriotic Celebration, Port Ludlow, WA

(i) Location. All water of Admiral Inlet extending out to a 800′ radius from the launch site at 47°58′22″ N 122°41′18″ W.

(ii) Effective time and date. 7 p.m. to 9:30 p.m. on July 5, 2008.

(b) Regulations. In accordance with the general regulations in 33 CFR Part 165, Subpart C, no vessel may enter, transit, moor, or anchor within these safety zones, except for vessels authorized by the Captain of the Port or his designated representatives.

(c) Enforcement Period. This rule is effective from 8 a.m. on June 7, 2008 until 8 a.m. on July 6, 2008 unless cancelled sooner by the Captain of the Port.

Dated: June 5, 2008.
Stephen P. Metruck,
Captain, U.S. Coast Guard, Captain of the Port, Puget Sound.

[FR Doc. E8-13835 Filed 6-18-08; 8:45 am]

BILLING CODE 4910-15-P